DEPARTMENT OF DEFENSE

Office of the Secretary

Meeting of the Defense Business Board (DBB)

AGENCY: Department of Defense (DoD).

ACTION: Meeting notice.

SUMMARY: Under the provisions of the Federal Advisory Committee Act of 1972 (5 U.S.C., Appendix, as amended), the Government in the Sunshine Act of 1976 (5 U.S.C. 552b, as amended), and 41 CFR 102-3.150, DoD announces that the Defense Business Board (DBB) will meet on October 22, 2009. Subject to the availability of space, this meeting is open to the public.

DATES: The public meeting will be held from 9 to 11 a.m. on Thursday, October 22, 2009.

ADDRESSES: The public meeting will be held at the Pentagon, Room 3E-863, Washington, DC (escort required, see SUPPLEMENTARY INFORMATION for further details).

FOR FURTHER INFORMATION CONTACT: For meeting information please contact Ms. Debora Duffy, Defense Business Board, 1155 Defense Pentagon, Room 5B-1088A, Washington, DC 20301-1155, Debora.duffy@osd.mil, (703) 697-2168.

The Board's Designated Federal Officer is Ms. Phyllis Ferguson, Defense Business Board, 1155 Defense Pentagon, Room 5B-1088A, Washington, DC 20301-1155, Phyllis.ferguson@osd.mil, (703) 695-7563.

SUPPLEMENTARY INFORMATION:

Background

At this meeting, the Board will deliberate findings and recommendations from four Task Groups: (1) “Reducing Acquisition Costs by Applying Best Business Practices to Fixed-Price Contracting,” (2) “Managing DoD Under Sustained Topline Pressures,” (3) “Recommendations for Insourcing the Acquisition Workforce,” and (4) “Assessing the Defense Industrial Base.” The mission of the DBB is to advise the Secretary of Defense on effective strategies for implementation of best business practices of interest to the Department of Defense.

Availability of Materials for the Meeting

A copy of the draft agenda for the October 22, 2009, meeting may be obtained from the Board's Web site at http://www.defenselink.mil/dbb under “Meeting Materials.”

Public's Accessibility to the Meeting

Pursuant to 5 U.S.C. 552b and 41 CFR 102-3.140 through 102-3.165, and the availability of space, this meeting is open to the public. Seating is on a first-come basis. All members of the public who wish to attend the meeting must contact Ms. Duffy (see FOR FURTHER INFORMATION CONTACT) no later than noon on Thursday, October 8th to register and make arrangements for a Pentagon escort, if necessary. Public attendees requiring escort should arrive at the Pentagon Metro Entrance in time to complete security screening by 8:45 a.m. Security screening requires two forms of identification: (1) A government-issued photo I.D., and (2) any type of secondary I.D., which verifies the individual's name (i.e. debit card, credit card, work badge, social security card).

Special Accommodations

Individuals requiring special accommodations to access the public meeting should contact Ms. Duffy (see FOR FURTHER INFORMATION CONTACT) at least five (5) business days prior to the meeting so that appropriate arrangements can be made.

Procedures for Providing Public Comments

Pursuant to 41 CFR 102-3.105(j) and 102-3.140, and section 10(a)(3) of the Federal Advisory Committee Act of 1972, the public or interested organizations may submit written comments to the Board about its mission and topics pertaining to this public session.

Written comments are accepted until the date of the meeting, however, written comments should be received by the DFO at least five (5) business days prior to the meeting date so that the comments may be made available to the Board for their consideration prior to the meeting.

Written comments should be submitted via email to the DFO (see FOR FURTHER INFORMATION CONTACT) in the following formats (Adobe Acrobat, WordPerfect, or Word format). Please note: Since the Board operates under the provisions of the Federal Advisory Committee Act, as amended, all public presentations will be treated as public documents and will be made available for public inspection, up to and including being posted on the Board's Web site.

Dated: September 25, 2009.
Patricia L. Toppings,
OSD Federal Register Liaison Officer, Department of Defense.

[FR Doc. E9-23737 Filed 9-30-09; 8:45 am]

BILLING CODE 5001-06-P